DEPARTMENT OF THE INTERIOR

Fish and Wildlife Service

[FWS-R8-ES-2015-N208; FXES11130000-xxx-FF08E00000]

Endangered and Threatened Wildlife and Plants; Draft Recovery Plan for the Santa Ana Sucker (Catostomus santaanae)

AGENCY: Fish and Wildlife Service, Interior.

ACTION: Notice of document availability.

SUMMARY: We, the U.S. Fish and Wildlife Service, announce the availability of the draft recovery plan for the Santa Ana sucker for public review and comment. The draft recovery plan includes recovery objectives and criteria, and specific actions necessary to achieve recovery and removal of the species from the Federal List of Endangered and Threatened Wildlife. We request review and comment on this draft recovery plan from local, State, and Federal agencies, and the public.

DATES: We must receive any comments on the draft recovery plan on or before January 23, 2015.

ADDRESSES: You may obtain a copy of the draft recovery plan from our Web site at http://www.fws.gov/endangered/species/recovery-plans.html. Alternatively, you may contact the Carlsbad Fish and Wildlife Office, U.S. Fish and Wildlife Service, 2177 Salk Avenue, Suite 250, Carlsbad, CA 92008 (telephone 760-431-9440).

FOR FURTHER INFORMATION CONTACT: Mendel Stewart, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed Santa Ana sucker (Catostomus santaanae) throughout its entire range on April 12, 2000 (71 FR 19686). The species is endemic to the Los Angeles, San Gabriel, and Santa Ana River Basins in southern California. Santa Ana sucker is a small, short-lived member of the sucker family of fishes (Catostomidae), named so primarily because of the downward orientation and anatomy of its mouth parts, which allow it to consume algae, small invertebrates, and other organic matter with its fleshy, protrusible (extendable) lips.

The primary threat to Santa Ana sucker is ongoing, rangewide hydrological modifications, which lead to degradation and loss of habitat. Additionally, isolation by impassable barriers or unsuitable habitat limits gene flow within the watersheds, thus increasing the vulnerability of small occurrences to a range of stochastic (random) factors.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The ultimate goal of this recovery plan is to recover Santa Ana sucker so that it can be delisted. To meet the recovery goal, the following objectives have been identified:

(1) Develop and implement a rangewide monitoring protocol to accurately and consistently document populations, occupied habitat, and threats.

(2) Conduct research projects specifically designed to inform management actions and recovery.

(3) Increase the abundance and develop a more even distribution of Santa Ana sucker within its current range by reducing threats to the species and its habitat.

(4) Expand the range of the Santa Ana sucker by restoring habitat (if needed), and reestablishing occurrences within its historical range.

As the Santa Ana sucker meets reclassification and recovery criteria, we will review its status and consider it for removal from the Federal List of Endangered and Threatened Wildlife.

Request for Public Comments

We request written comments on the draft revised recovery plan described in this notice. All comments received by the date specified in the DATES section will be considered in development of a final recovery plan for Santa Ana sucker. You may submit written comments and information by mail or in person to the Carlsbad Fish and Wildlife Office at the address in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Authority

We developed our recovery plan under the authority of section 4(f) of the Act, 16 U.S.C. 1533(f). We publish this notice under section 4(f) of the Endangered Species Act of 1973, as amended (16 U.S.C. 1531 et seq.).

Dated: November 18, 2014.
Paul B. McKim,
Acting Regional Director, Pacific Southwest Region, Sacramento, California.

[FR Doc. 2014-27757 Filed 11-21-14; 8:45 am]

BILLING CODE 4310-55-P